NATIONAL SCIENCE FOUNDATION

Notice of Intent To Seek Approval To Establish an Information Collection

AGENCY: National Science Foundation.

ACTION: Notice and request for comments.

SUMMARY: Under the Paperwork Reduction Act of 1995, Public Law 104-13 (44 U.S.C. 3501 et seq.), and as part of its continuing effort to reduce paperwork and respondent burden, the National Science Foundation (NSF) is inviting the general public or other Federal agencies to comment on this proposed continuing information collection.

Comments are invited on whether the proposed collection of information is necessary for the proper performance of the functions of the Foundation, including whether the information will have practical utility; the accuracy of the Foundation's estimate of the burden of the proposed collection of information; ways to enhance the quality, utility, and clarity of the information to be collected; and ways to minimize the burden of the collection of information on those who are to respond, including through the use of automated collection techniques or other forms of information technology.

DATES: Written comments on this notice must be received by September 18, 2015, to be assured consideration. Comments received after that date will be considered to the extent practicable. Send comments to address below.

FOR FURTHER INFORMATION CONTACT: Ms. Suzanne H. Plimpton, Reports Clearance Officer, National Science Foundation, 4201 Wilson Boulevard, Suite 1265, Arlington, Virginia 22230; telephone (703) 292-7556; or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION: Title of Collection: Community College Innovation Challenge Information Collection.

OMB Number: 3145—NEW.

Expiration Date of Approval: Not applicable.

Type of Request: Intent to seek approval to establish an information collection for post-challenge outcome monitoring system.

Abstract

Proposed Project

NSF provides nearly 20 percent of federal funding for basic research to academic institutions.¹ The Office of Legislative and Public Affairs (OLPA) communicates information about the activities, programs, research results and policies of NSF. OLPA employs a wide variety of tools and techniques to engage the general public and selected audiences including Congress, the news media, state and local governments, other Federal agencies, and the research and education communities. To these ends, OLPA provides support for innovative new initiatives designed to increase public engagement and scientific progress. An important aspect of scientific progress is the education of future scientists. Improvements in science, technology, engineering and mathematics (STEM) curricula, particularly changes that engage students in the process of research and discovery, have become a focal point for attracting more students into science. Undergraduate research is a significant strategy for improving undergraduate STEM education.

¹ National Science Foundation. (2012). NSF at a glance. Retrieved from http://www.nsf.gov/about/glance.jsp.

Community colleges prepare technicians who will become an integral part of research efforts and students who will continue their education at four-year institutions. Further, they play a significant role in the preparation of underrepresented groups in science. Community colleges have long recognized the importance of mentoring students and have a history of success in educating underrepresented students for successful careers in STEM. Thus, community colleges play an important role in workforce development in their states and local communities. Industry frequently looks to community colleges to provide an educated and technologically up-to-date workforce. The National Science Foundation's (NSF) thrust of incorporating research into the traditional teaching mission of the community college is a relatively new expansion of its mission. This challenge furthers NSF's mission by enabling students to discover and demonstrate their capacity to use science to make a difference in the world, and to transfer knowledge into action.

The Office of Legislative and Public Affairs (OLPA) requests of the Office of Management and Budget (OMB) an approval for an information collection intended to monitor outputs, short-term, intermediate and long term outcomes of OLPA's new Community College Innovation Challenge.

The survey questionnaire, individually tailored to measure outputs and outcomes for this initiative, will provide essential information for program monitoring purposes. Data collected by this collection will be used for program planning, management, and evaluation. A summary of monitoring data can be used to respond to queries from Congress, the public, NSF's external merit reviewers who serve as advisors, including Committees of Visitors (COVs), and NSF's Office of the Inspector General. These data are needed for effective administration, program and project monitoring, evaluation, and for measuring attainment of NSF's program and strategic goals, as identified by the President's Accountable Government Initiative, the Government Performance and Results Act (GPRA) Modernization Act of 2010, and NSF's Strategic Plan. The collection included in this request is designed to assist in management of the CCIC and to serve as a data resource for current and future initiative evaluations.

This data collection effort will enable OLPA to longitudinally monitor outputs and outcomes given the unique goals and purpose of the CCIC. This is very important to enable appropriate and accurate evidence-based management of the program and to determine whether or not the specific goals of the program are being met.

Participants will be invited to submit this information via data collection methods that include but are not limited to online surveys, interviews, phone interviews, etc. The indicators are both quantitative and descriptive and may include number of students majoring in STEM disciplines or joining the STEM workforce, faculty expressions of mentoring ability for STEM careers, number of participants continuing to participate in innovation or entrepreneurship activities among other indicators.

Use of the Information: The data collected will be used for NSF internal reports, historical data, program level studies and evaluations, and for securing future funding for the CCIC program maintenance and growth. These data could be used for program evaluation purposes if deemed necessary. Evaluation designs could make use of metadata associated with the contest, and other characteristics to identify a comparison group to evaluate the impact of the program funding and other interesting research questions.

Estimate of Burden
Collection title | Number of respondents | Annual number of responses/ respondent | Annual hour burden
Community College Innovation Challenge Monitoring Collection | 410 | .25 | .1
Total | 410 | .25 | 10.25

Below is an example that shows how the hour burden was estimated for the monitoring system.

The estimated average number of annual respondents is 410, with an estimated annual response burden of 10.25 hours. For post-award monitoring systems, OLPA expects to collect data at 6 months 1, 3, and 8 years post-challenge, in order to have the best chance of capturing the more immediate outcomes expected by ~1 year post-challenge, intermediate outcomes at 3 years post-challenge, and long-term outcomes/impacts at 8 years post challenge. These four (4) data collections spread over the span of 10 years; this averages to 0.25 data collections/year. The community college population may transition relatively quickly to another school or to the workforce and we might expect a shorter and more condensed timeline of outcomes and impacts. Thus, we wish to collect data at 6 months and one year after the challenge, and then once annually at 3 and 8 years post-award.

Respondents

The respondents are faculty mentors and community college students.

Estimates of Annualized Cost to Respondents for the Hour Burdens

The overall annualized cost to the respondents is estimated to be $8,800. The following table shows the annualized estimate of costs to faculty mentor respondents, who are community college professors. This estimated hourly rate is based on a report from the American Association of University Professors, “Annual Report on the Economic Status of the Profession, 2014-15,” Academe, March-April 2015, Survey Report Table 4. According to this report, the average salary of an associate professor across all types of associate's degree granting institutions (public, private-independent) was $62,221. When divided by the number of standard annual work hours (2,080), this calculates to approximately $30 per hour. For the students, due to the broad range of employment levels, we estimated an average hourly rate of $20.

Respondent type | Number of respondents | Burden hours per respondent | Average hourly rate | Estimated annual cost
Faculty Mentors | 60 | 1 | $30 | $1,800
Students | 350 | 1 | 20 | 7,000

Estimated Number of Responses per Report

Data collection involves all finalists and semifinalists in the challenge. The table below shows the total universe and sample size for the collections.

Respondent Universe and Sample Size of CCIC Information Collections
Collection title | Universe of respondents | Sample size
Community College Innovation Challenge Monitoring Collection | 410 | 410

Dated: July 15, 2015.
Suzanne H. Plimpton,
Reports Clearance Officer, National Science Foundation.

[FR Doc. 2015-17698 Filed 7-17-15; 8:45 am]

BILLING CODE 7555-01-P